DEPARTMENT OF THE INTERIOR

Bureau of Land Management

[NM-020-1430-ES, NMNM 107508, NMNM 103827]

Notice of Realty Action; Recreation and Public Purposes R&PP) Act Classification; New Mexico

AGENCY: Bureau of Land Management.

ACTION: Notice.

SUMMARY: The following public lands in Taos County, New Mexico have been examined and found suitable for classification for lease or conveyance to Taos County, under the provisions of the Recreation and Public Purposes Act, as amended (43 U.S.C. 869 et seq.). Taos County proposes to use the lands for waste transfer sites.

New Mexico Principal Meridian

T. 24 N., R. 11 E.,

Sec. 33, within NENE.

Containing approximately 2.5 acres.

T. 24 N., R. 9 E.,

Sec. 8: within SENE.

Containing approximately 2.5 acres.

The lands are not needed for Federal Purposes. Lease or conveyance is consistent with current BLM land use planning and would be in the public interest.

The lease/conveyance, when issued, will be subject to the following terms, conditions and reservations:

1. Provisions of the Recreation and Public Purposes Act and to all applicable regulations of the Secretary of the Interior.

2. A right-of-way for ditches and canals constructed by the authority of the United States.

3. All minerals shall be reserved to the United States, together with the right to prospect for, mine, and remove the minerals.

4. Those rights for a road right-of-way granted to New Mexico State Highway Department by Permit No. NM-027705.

5. Those rights for a road right-of-way granted to New Mexico State Highway Department by Permit No. NMSF-0074775.

6. Those rights for a buried telephone line granted to Valor Telecom of NM LLC by Permit No. NM-068575.

Detailed information concerning this action is available for review at the office of the Bureau of Land Management, Taos Resource Area, 226 Cruz Alta, Taos, NM 87571.

Upon publication of this notice in the Federal Register, the lands will be segregated from all other forms of appropriation under the public land laws, including the general mining laws, except for lease or conveyance under the Recreation and Public Purposes Act and leasing under the mineral leasing laws. For a period of 45 days from the date of publication of this notice in the Federal Register, interested persons may submit comments regarding the proposed lease/conveyance or classification of the lands to the Field Office Manager, BLM Taos Office, 226 Cruz Alta Road, Taos, New Mexico 87571.

Classification Comments

Interested parties may submit comments involving the suitability of the land for waste transfer sites for Taos County. Comments on the classification are restricted to whether the land is physically suited for the proposal, whether the use will maximize the future use or uses of the land, whether the use is consistent with local planning and zoning, or if the use is consistent with State and Federal programs.

Application Comments

Interested parties may submit comments regarding the specific use proposed in the application and plan of development, whether the BLM followed proper administrative procedures in reaching the decision, or any other factor not directly related to the suitability of the land for the proposed use.

Any adverse comments will be reviewed by the State Director. In the absence of any adverse comments, the classification will become effective 60 days from the date of publication of this notice in the Federal Register.

Dated: January 29, 2002.
Sam DesGeorges,
Field Office Manager.

[FR Doc. 02-4662 Filed 2-26-02; 8:45 am]

BILLING CODE 4310-FB-P